DEPARTMENT OF COMMERCE

National Oceanic and Atmospheric Administration

[RTID 0648-XX048]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application submitted by the Gulf of Maine Research Institute contains all of the required information and warrants further consideration. The exempted fishing permit would allow the use of electronic monitoring and dockside monitoring to support testing a maximized retention model in the groundfish fishery. Vessels would be exempt from minimum fish sizes and groundfish sector at-sea monitoring requirements. Additionally, vessels would be authorized to access portions of Closed Area II during certain times of year, and use trawl gear below the minimum mesh size. Regulations under the Magnuson-Stevens Fishery Conservation and Management Act require publication of this notification to provide interested parties the opportunity to comment on applications for proposed exempted fishing permits.

DATES: Comments must be received on or before April 24, 2020.

ADDRESSES: You may submit written comments by either of the following methods:

• Email: nmfs.gar.efp@noaa.gov. Include in the subject line “GMRI MREM EFP.”

• Mail: Michael Pentony, Regional Administrator, NMFS, Greater Atlantic Regional Fisheries Office, 55 Great Republic Drive, Gloucester, MA 01930. Mark the outside of the envelope “GMRI MREM EFP.”

Copies of the supplemental information report (SIR) developed in support of this project may be obtained by contacting Claire Fitz-Gerald, Fishery Policy Analyst at the Greater Atlantic Regional Fisheries Office, 978-281-9255.

FOR FURTHER INFORMATION CONTACT: Claire Fitz-Gerald, Fishery Policy Analyst, 978-281-9255.

SUPPLEMENTARY INFORMATION: Groundfish sectors must implement and fund an at-sea monitoring (ASM) program, and the Northeast Multispecies Fishery Management Plan allows sectors to use electronic monitoring (EM) to satisfy this monitoring requirement, provided that NMFS deems the technology sufficient for catch monitoring. NMFS recently notified the Council of its intent to allow sectors to submit EM plans instead of, or in addition to, ASM plans as part of the fishing year 2021 and 2022 sector operations plans approval process. For the 2020 fishing year, lessons learned through this exempted fishing permit (EFP) will allow NMFS to continue developing standards and requirements for the groundfish EM program. Project partners include the Gulf of Maine Research Institute (GMRI) and fishermen.

GMRI submitted an EFP application to test a maximized retention electronic monitoring (MREM) model and an accompanying dockside monitoring (DSM) program to monitor high-volume bottom-trawl vessels in the groundfish fleet. Vessels would be outfitted with EM systems (cameras and gear sensors), and the cameras would be on for 100 percent of groundfish trips. The EFP would require participating vessels to retain and land all catch of allocated groundfish, including undersized fish that they would normally be required to discard. All other species would be handled per normal commercial fishing operations. An EM service provider would review 100 percent of the video footage to verify that the vessels did not discard allocated groundfish. Northeast Fisheries Science Center (Center) staff would conduct a secondary review of the video footage on a subset of trips.

All catch would be assessed shoreside via an accompanying DSM program. Dockside monitors would: (1) Collect biological information for undersized catch, including length-frequency data and age structures on a subset of fish in this market category; (2) verify dealer-reported weights for all species and market categories; and (3) inspect fish holds. Vessels would be authorized to sell catch, including undersized fish, to a limited number of dealers. The vessel and dealer would work collaboratively with the Center to ensure that a dockside monitor is present to observe 100 percent of offloads for this project. Participating dealers would be required to accommodate monitors' sampling protocols and all totes containing undersized fish would be accompanied by a tag identifying the program and the vessel trip report (VTR) number.

Because vessels would be fully monitored, GMRI also requested exemptions to incentivize participation in the project and increase fishing opportunities for healthy stocks. The EFP would allow vessels to use the codend configuration used in the Canadian haddock fishery (5.1-inch (13.0-cm) square mesh codend with modifier haddock separator device or Ruhle trawl) and/or the codend configuration tested in the REDNET project (4.5-inch (11.4-cm) diamond mesh codend). The latter mesh size would be restricted to the Redfish Exemption Area and all standard sector exemption requirements would still apply. These exemptions are intended to improve size selectivity and increase catch of target species, while avoiding groundfish species of concern.

The applicant also requested access to portions of Closed Area II. Vessels would be allowed to fish in the non-essential fish habitat portions of Closed Area II from April 16 through January 31. Vessels would not be allowed to fish in the area from February 1 through April 15 as fishing activity during this time may negatively affect Georges Bank cod and haddock spawning. The applicant states that, due to the distribution and movement of groundfish stocks, this exemption would improve vessels' ability to selectively target healthy groundfish stocks.

The applicant also requested an exemption from sector third-party ASM requirements. Under the current MREM program EFP, ASM data is used to build discard rates for unallocated groundfish stocks and non-groundfish species for MREM vessels. ASM data is not used to build discard rates for allocated groundfish stocks because the vessels are required to retain and land this catch. Therefore, we intend to reduce the ASM coverage target under this EFP to the level necessary to meet the coefficient of variation (CV30) precision standard for the unallocated groundfish stocks. For fishing year 2020, the ASM coverage target would be 9 percent, driven by ocean pout. Although the ASM coverage level should not be based solely on the results of the CV30 standard methodology for the fishery as a whole, we determined that the CV30 methodology is appropriate for this program because the same circumstances do not apply. MREM vessels are not allowed to discard allocated stocks and are fully monitored to ensure compliance. These vessels would only be discarding unallocated stocks, which do not present the same potential for bias. Northeast Fishery Observer Program (NEFOP) observers would not be deployed on these vessels because their fishing activity is not consistent with the Standardized Bycatch Reporting Methodology (SBRM) sampling design. Under an operational program, NMFS would build an SBRM stratum for MREM vessels and these data would be used to build discard rates for unallocated species. Participating vessels would use cameras in lieu of ASM and in additional to NEFOP observers. Because vessels participating in the EFP are not subject to NEFOP coverage, a limited amount of ASM is necessary.

This EFP would be effective for the 2020 and 2021 fishing years. NMFS would authorize a maximum of eight bottom-trawl vessels to participate. MREM vessels would take roughly 240-315 trips per year and would land an estimated 1-3 million pounds (454—1,361 mt) of fish annually. All catch of allocated groundfish stocks would be deducted from the appropriate sector's allocation. Because this is a maximized retention program, vessels would not be permitted to discard legal unmarketable fish for allocated groundfish stocks, regardless of whether the vessel holds a sector exemption to do so through its operations plan.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 6, 2020.
Hélène M.N. Scalliet,
Acting Director, Office of Sustainable Fisheries, National Marine Fisheries Service.

[FR Doc. 2020-07473 Filed 4-8-20; 8:45 am]

BILLING CODE 3510-22-P